DEPARTMENT OF COMMERCE

Foreign-Trade Zones Board

[B-36-2020]

Foreign-Trade Zone (FTZ) 82—Mobile, Alabama; Authorization of Production Activity; Airbus Americas, Inc. (Commercial Passenger Jet Aircraft), Mobile, Irvington and Theodore, Alabama

On June 2, 2020, Airbus Americas, Inc., submitted a notification of proposed production activity to the FTZ Board for its facilities within FTZ 82, in Mobile, Irvington and Theodore, Alabama.

The notification was processed in accordance with the regulations of the FTZ Board (15 CFR part 400), including notice in the Federal Register inviting public comment (85 FR 35259, June 9, 2020). On September 30, 2020, the applicant was notified of the FTZ Board's decision that no further review of the activity is warranted at this time. The production activity described in the notification was authorized, subject to the FTZ Act and the FTZ Board's regulations, including Section 400.14.

Dated: September 30, 2020.
Andrew McGilvray,
Executive Secretary.

[FR Doc. 2020-22049 Filed 10-5-20; 8:45 am]

BILLING CODE 3510-DS-P